FEDERAL DEPOSIT INSURANCE CORPORATION

[OMB No. 3064-0072]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the revision of the existing information collection described below (OMB Control No. 3064-0072).

DATES: Comments must be submitted on or before May 1, 2026.

ADDRESSES: Interested parties are invited to submit written comments to the FDIC by any of the following methods:

• Agency Website: https://www.fdic.gov/resources/regulations/federal-register-publications/.

• Email: comments@fdic.gov. Include the name and number of the collection in the subject line of the message.

• Mail: Robert Meiers, Regulatory Counsel, MB-3013, Federal Deposit Insurance Corporation, 550 17th Street NW, Washington, DC 20429.

• Hand Delivery: Comments may be hand-delivered to the guard station at the rear of the 17th Street NW building (located on F Street NW), on business days between 7 a.m. and 5 p.m.

All comments should refer to the relevant OMB control number. A copy of the comments may also be submitted to the OMB desk officer for the FDIC: Office of Information and Regulatory Affairs, Office of Management and Budget, New Executive Office Building, Washington, DC 20503.

FOR FURTHER INFORMATION CONTACT: Robert Meiers, Regulatory Attorney, Romeiers@fdic.gov, MB-3013, Federal Deposit Insurance Corporation, 550 17th Street NW, Washington, DC 20429.

SUPPLEMENTARY INFORMATION:

Proposal to renew the following currently approved collection of information:

1. Title: Acquisition Services Information Requirements

OMB Number: 3064-0072

Form Number: 1600/04; 1600/07; 3700/04A; 3700/12; 3700/44; 3700/57

Affected Public: Private sector, business and other for-profit entities.

Burden Estimate:

Summary of Estimated Annual Burden (OMB No. 3064-0072)
Information collection (IC) (obligation to respond) | Type of burden (frequency of response) | Number of respondents | Number of responses per respondent | Time per response (HH:MM) | Annual burden (hours)
1. Request for Proposal and Request for Quotation—Solicitation/Award (Form 3700/55) (Required to Obtain or Retain Benefits) | Reporting (On Occasion) | 634 | 1 | 10:36 | 6,720
2. Request for Information (Voluntary) | Reporting (On Occasion) | 104 | 1 | 55:24 | 5,762
3. Background Investigation Questionnaire for Contractor Personnel and Subcontractors (Form 1600/04), 12 CFR 366 (Required to Obtain or Retain Benefits) | Reporting (On Occasion) | 581 | 1 | 00:20 | 194
4. Background Investigation Questionnaire for Contractors (Form 1600/07), 12 CFR 366 (Required to Obtain or Retain Benefits) | Reporting (On Occasion) | 223 | 1 | 00:30 | 112
5. Leasing Representations and Certifications (Form 3700/44), 12 CFR 366 (Required to Obtain or Retain Benefits) | Reporting (On Occasion) | 40 | 1 | 01:00 | 40
6. Past Performance Questionnaire (Form 3700/57) (Required to Obtain or Retain Benefits) | Reporting (On Occasion) | 474 | 1 | 00:45 | 356
7. Contractor Representations and Certifications (Form 3700/04A) (Required to Obtain or Retain Benefits) | Reporting (On Occasion) | 1 | 1 | 00:35 | 1
8. Integrity and Fitness Representations and Certifications (Form 3700/12) (Required to Obtain or Retain Benefits) | Reporting (On Occasion) | 1 | 1 | 00:20 | 0
9. Prize Competitions—Application (Required to Obtain or Retain Benefits) | Reporting (On Occasion) | 1 | 1 | 01:00 | 1
10. Prize Competitions—Proposal (Required to Obtain or Retain Benefits) | Reporting (On Occasion) | 1 | 1 | 60:00 | 60
11. Innovation Pilot Programs—Application (Required to Obtain or Retain Benefits) | Reporting (On Occasion) | 1 | 1 | 20:00 | 20
12. Innovation Pilot Programs—Proposal (Required to Obtain or Retain Benefits) | Reporting (On Occasion) | 1 | 1 | 60:00 | 60
Total Annual Burden (Hours) |  |  |  |  | 13,326
Source: FDIC.

General Description of Collection: This information collection involves the submission of various forms by (1) contractors who wish to do business with the FDIC or are currently under contract with the FDIC, (2) those vendors and parties participating in innovation pilot programs and prize competitions with the possibility of being awarded a contract, and (3) government agencies or commercial businesses that provide FDIC with past performance information. The Federal Deposit Insurance Act (the Act) (12 U.S.C. 1819) empowers the FDIC to enter into contracts using private sector contractors to provide goods or services. The Act also provides that the FDIC may promulgate policies and procedures to administer the powers granted to it, including the power to enter into contracts. Pursuant to such policies, the Acquisition and Corporate Services Branch of the FDIC's Division of Administration has developed forms and clauses to facilitate the procurement of goods and services from private sector contractors. The information collected through these forms and clauses falls under the definition of collection of information under the Paperwork Reduction Act of 1995 (PRA). The FDIC is revising Form 7400/04A by removing certain language and questions in the form to comply with Executive Order 14151. The decreased burden is due to the removal of Questions 3, 4, and 7.

Request for Comment

Comments are invited on: (a) whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, on February 26, 2026.
Debra A. Decker,
Executive Secretary.

[FR Doc. 2026-04099 Filed 2-27-26; 8:45 am]

BILLING CODE 6714-01-P